DEPARTMENT OF DEFENSE

Department of the Air Force

Notice of Intent To Grant an Exclusive Patent License

AGENCY: Department of the Air Force.

ACTION: Notice.

SUMMARY: This Notice is to correct the title of the earlier published version on September 9, 2008 Vol. 73, No 17. Notice of Intent to Grant a Partially Exclusive Patent License. Pursuant to the provisions of Part 404 of Title 37, code of Federal Regulations, which implements Public Law 96-517, as amended, the Department of the Air Force announces its intention to grant Allcomp, Incorporated, a California corporation, having a place of business at 209 Puente Avenue, City of Industry, California 91746-2304 an exclusive license in any right, title and interest the Air Force has in:

U.S. Patent No. 6,309,703, issued 30 October 2001, entitled “Carbon and Ceramic Matrix Composites Fabricated by a Rapid Low-Cost Process Incorporating In-Situ Polymerization of Wetting Monomers,” by Phillip G. Wapner, Wesley P. Hoffman and Steven Jones.

DATES: A license for this patent will be granted unless a written objection is received within fifteen (15) days from the date of publication of this Notice.

FOR FURTHER INFORMATION CONTACT: Written objection should be sent to: Air Force Material Command Law Office, AFMCLO/JAZ, Building 11, room D18, 2240 B Street, Wright Patterson AFB OH 45433-7109. Telephone: (937) 255-2838; Facsimile (937) 255-7333.

Bao-Anh Trinh,
Air Force Federal Register Liaison Officer.

[FR Doc. E8-21695 Filed 9-16-08; 8:45 am]

BILLING CODE 5001-05-P